CONSUMER PRODUCT SAFETY COMMISSION

[Docket No. CPSC-2011-0019]

Agency Information Collection Activities; Submission for OMB Review; Comment Request—Safety Standard for Portable Bed Rails

AGENCY: Consumer Product Safety Commission.

ACTION: Notice.

SUMMARY: In accordance with the requirements of the Paperwork Reduction Act (“PRA”) of 1995 (44 U.S.C. chapter 35), the Consumer Product Safety Commission (“Commission” or “CPSC”) announces that the Commission has submitted to the Office of Management and Budget (“OMB”) a request for extension of approval of a collection of information associated with the CPSC's Safety Standard for Portable Bed Rails (OMB No. 3041-0149). In the Federal Register of March 19, 2015 (80 FR 14367), the CPSC published a notice to announce the agency's intention to seek extension of approval of the collection of information. The Commission received no comments. Therefore, by publication of this notice, the Commission announces that CPSC has submitted to the OMB a request for extension of approval of that collection of information, without change.

DATES: Written comments on this request for extension of approval of information collection requirements should be submitted by July 13, 2015.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2011-0019.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: CPSC has submitted the following currently approved collection of information to OMB for extension:

Title: Safety Standard for Portable Bed Rails.

OMB Number: 3041-0149.

Type of Review: Renewal of collection.

Frequency of Response: On occasion.

Affected Public: Manufacturers and importers of portable bed rails.

Estimated Number of Respondents: 17 firms supplying portable bed rails to the United States Market have been identified with an estimated 2 models/firm annually.

Estimated Time per Response: 1 hour/model associated with marking, labeling, and instructional requirements.

Total Estimated Annual Burden: 34 hours (17 firms × 2 models × 1 hour).

General Description of Collection: The Commission issued a safety standard for portable bed rails (16 CFR part 1224) on February 29, 2012 (77 FR 12182). The standard is intended to address hazards to children from use of portable bed rails. Among other requirements, the standard requires manufacturers, including importers, to meet the collection of information requirements for marking, labeling, and instructional literature for portable bed rails.

Dated: June 8, 2015.
Todd A. Stevenson,
Secretary, Consumer Product Safety Commission.

[FR Doc. 2015-14263 Filed 6-10-15; 8:45 am]

BILLING CODE 6355-01-P